DEPARTMENT OF DEFENSE

Office of the Secretary

Membership of the Defense Contract Audit Agency (DCAA) Performance Review Boards

AGENCY: Defense Contract Audit Agency, DoD.

ACTION: Notice of membership of the Defense Contract Audit Agency Performance Review Boards.

SUMMARY: This notice announces the appointment of the members of the Performance Review Boards (PRBs) of the Defense Contract Audit Agency (DCAA). The publication of PRB membership is required by 5 U.S.C. 4314(c)(4). The Performance Review Boards provide fair and impartial review of Senior Executive Service (SES) performance appraisals and make recommendations to the Director, DCAA, regarding final performance ratings and performance awards for DCAA SES members.

EFFECTIVE DATE: June 27, 2001.

FOR FURTHER INFORMATION CONTACT: Dale R. Collins, Chief, Human Resources Management Division, Defense Contract Audit Agency, Department of Defense, Ft. Belvoir, Virginia 22060-6219, 703-767-1236.

SUPPLEMENTARY INFORMATION: In accordance with 5 U.S.C. 4314(c)(4), the following are the names and titles of the executives who have been appointed to serve as members of the DCAA Performance Review Boards. They will serve one-year terms, effective upon publication of this notice.

Headquarters Performance Review Board

Mr. Larry Uhlfelder, Assistant Director, Policy and Plans, Defense Contract Audit Agency, Chairperson.

Mr. Earl Newman, Assistant Director, Operations, Defense Contract Audit Agency, member.

Mr. Kirk Moberley, General Counsel, Defense Contract Audit Agency, member.

Regional Performance Review Board

Mr. Frank Summers, Regional Director, Eastern, Defense Contract Audit Agency, Chairperson.

Mr. James Lovelace, Director, Field Detachment, Defense Contract Audit Agency, member.

Mr. Steve Hernandez, Deputy Regional Director, Northeastern, Defense Contract Audit Agency, member.

Dated: June 21, 2001.
L.M. Bynum,
Alternate OSD Federal Register Liaison Officer, Department of Defense.

[FR Doc. 01-16033 Filed 6-26-01; 8:45 am]

BILLING CODE 5001-08-M